DEPARTMENT OF THE INTERIOR

National Park Service

[NPS-WASO-NAGPRA-NPS0034447; PPWOCRADN0-PCU00RP14.R50000]

Notice of Inventory Completion Amendment: University of Pennsylvania Museum of Archaeology and Anthropology, Philadelphia, PA

AGENCY: National Park Service, Interior.

ACTION: Notice; amendment.

SUMMARY: In accordance with the Native American Graves Protection and Repatriation Act (NAGPRA), the University of Pennsylvania Museum of Archaeology and Anthropology has amended a Notice of Inventory Completion published in the Federal Register on July 22, 2021. This notice amends the minimum number of individuals in a collection removed from Philadelphia County, PA; Burlington County, NJ; Madison County, IN; and other areas in the United States.

DATES: Repatriation of the human remains in this notice may occur on or after October 6, 2022.

ADDRESSES: Dr. Christopher Woods, Williams Director, University of Pennsylvania Museum of Archaeology and Anthropology, 3260 South Street, Philadelphia, PA 19104-6324, telephone (215) 898-4050, email director@pennmuseum.org.

SUPPLEMENTARY INFORMATION: This notice is published as part of the National Park Service's administrative responsibilities under NAGPRA. The determinations in this notice are the sole responsibility of the University of Pennsylvania Museum of Archaeology and Anthropology. The National Park Service is not responsible for the determinations in this notice. Additional information on the amendments and determinations in this notice, including the results of consultation, can be found in the inventory or related records held by the University of Pennsylvania Museum of Archaeology and Anthropology.

Amendment

This notice amends the determinations in a Notice of Inventory Completion published in the Federal Register (86 FR 38759-38760, July 22, 2021). Following further consultation, the human remains of one individual—catalog number 97-606-40—obtained by Dr. Zina Pitcher from Fort Gibson in Muskogee County, Oklahoma, should be removed from the earlier notice. No other amendments are necessary. Repatriation of the human remains in the original Notice of Inventory Completion has not occurred.

Determinations (as Amended)

Pursuant to NAGPRA and its implementing regulations, and after consultation with the appropriate Indian Tribes and Native Hawaiian organizations, the University of Pennsylvania Museum of Archaeology and Anthropology has determined that:

• The human remains represent the physical remains of nine individuals of Native American ancestry.

• There is a relationship of shared group identity that can be reasonably traced between the human remains and associated funerary objects and the Delaware Nation, Oklahoma; Delaware Tribe of Indians; and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after October 6, 2022. If competing requests for repatriation are received, the University of Pennsylvania Museum of Archaeology and Anthropology must determine the most appropriate requestor prior to repatriation. Requests for joint repatriation of the human remains are considered a single request and not competing requests. The University of Pennsylvania Museum of Archaeology and Anthropology is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: August 29, 2022.
Melanie O'Brien,
Manager, National NAGPRA Program.

[FR Doc. 2022-19167 Filed 9-2-22; 8:45 am]

BILLING CODE 4312-52-P